FEDERAL RETIREMENT THRIFT INVESTMENT BOARD

Sunshine Act Meeting

TIME AND DATE: 10 a.m. (EDT), July 17, 2001.

PLACE: 4th Floor, Conference Room 4506, 1250 H Street, NW., Washington, DC.

STATUS: Closed.

MATTERS TO BE CONSIDERED: Involvement of Board in a civil action.

CONTACT PERSON FOR MORE INFORMATION: Thomas J. Trabucco, Director, Office of External Affairs, (202) 942-1640.

Dated: July 17, 2001.
Salomon Gomez,
Associate General Counsel, Federal Retirement Thrift Investment Board.

[FR Doc. 01-18251 Filed 7-17-01; 3:45 pm]

BILLING CODE 6760-01-M